DEPARTMENT OF ENERGY

Federal Energy Regulatory Commission

[Docket No. EC01-102-000, et al.]

North Carolina Power Holdings, LLC, et al.; Electric Rate and Corporate Regulation Filings

May 24, 2001.

Take notice that the following filings have been made with the Commission:

1. North Carolina Power Holdings, LLC, Enron North America Corp., AIG Highstar Capital, L.P.

[Docket No. EC01-102-000]

Take notice that on May 18, 2001, Enron North America Corp. (ENA), North Carolina Power Holdings, LLC (NCPH) (on behalf of its wholly-owned subsidiaries, Elizabethtown Power, LLC (Elizabethtown) and Lumberton Power, LLC (Lumberton), and AIG Highstar Capital, L.P. (AIG Highstar) (collectively Applicants) filed with the Federal Energy Regulatory Commission an application pursuant to Section 203 of the Federal Power Act for authorization of a disposition of jurisdictional facilities whereby ENA will transfer one hundred percent of the equity interests it holds in NCPH to AIG Highstar through a securities purchase agreement. Applicants request confidential treatment of Exhibit I, pursuant to 18 CFR 388.112 of the Commission's regulations, for the written instruments associated with the proposed disposition.

Comment date: June 8, 2001, in accordance with Standard Paragraph E at the end of this notice.

2. Western Resources, Inc. and Kansas Gas and Electric Company

[Docket No. EC01-103-000]

Take notice that on May 21, 2001, Western Resources, Inc. and Kansas Gas and Electric Company filed with the Federal Energy Regulatory Commission an application pursuant to Section 203 of the Federal Power Act for authorization to transfer operational control of certain of their jurisdictional transmission facilities to the Southwest Power Pool Regional Transmission Organization.

Comment date: June 11, 2001, in accordance with Standard Paragraph E at the end of this notice.

3. New England Power Pool

[Docket No. ER01-1398-001]

Take notice that on May 21, 2001, the New England Power Pool (NEPOOL) Participants Committee tendered for filing a report of compliance in response to requirements of the Commission's April 25, 2001 order in Docket No. ER01-1398-000. New England Power Pool, 95 FERC ¶ 61,105 (2001).

The NEPOOL Participants Committee states that copies of these materials were sent to all persons identified on the service lists in the captioned proceedings, the NEPOOL Participants and the six New England state governors and regulatory commissions.

Comment date: June 11, 2001, in accordance with Standard Paragraph E at the end of this notice.

4. PJM Interconnection, L.L.C.

[Docket No. ER01-1440-001]

Take notice that on May 21, 2001, PJM Interconnection, L.L.C. (PJM), in compliance with ordering paragraph (B) of the Commission's order in PJM Interconnection, L.L.C., 95 FERC ¶ 61,175 (2001), tendered for filing Second Revised Sheet No. 54 to the PJM Reliability Assurance Agreement Among Load Serving Entities in the PJM Control Area, which eliminates the limit on the Alternate Value calculation.

Comment date: June 11, 2001, in accordance with Standard Paragraph E at the end of this notice.

5. PJM Interconnection, L.L.C.

[Docket No. ER01-1730-001]

Take notice that on May 21, 2001, PJM Interconnection, L.L.C. (PJM) tendered for filing a clean First Revised Sheet No. 43 Superceding Original Sheet No. 43 which was mis-designated in the original filing made April 5, 2001 in this docket.

Comment date: June 11, 2001, in accordance with Standard Paragraph E at the end of this notice.

6. Idaho Power Company

[Docket No. ER01-2088-000]

Take notice that on May 21, 2001, Idaho Power Company tendered for filing a Service Agreement for Non-Firm Point-to-Point Transmission Service between Idaho Power and the State of Nevada, Colorado River Commission under its open access transmission tariff in the above-captioned proceeding.

Comment date: June 11, 2001, in accordance with Standard Paragraph E at the end of this notice.

7. Idaho Power Company

[Docket No. ER01-2089-000]

Take notice that on May 21, 2001, Idaho Power Company tendered for filing a Service Agreement for Firm Point-to-Point Transmission Service between Idaho Power and the State of Nevada, Colorado River Commission under its open access transmission tariff in the above-captioned proceeding.

Comment date: June 11, 2001, in accordance with Standard Paragraph E at the end of this notice.

8. Idaho Power Company

[Docket No. ER01-2093-000]

Take notice that on May 21, 2001, Idaho Power Company tendered for filing a Service Agreement for Non-Firm Point-to-Point Transmission Service between Idaho Power and Axia Energy, LP, under its open access transmission tariff in the above-captioned proceeding.

Comment date: June 11, 2001, in accordance with Standard Paragraph E at the end of this notice.

9. Idaho Power Company

[Docket No. ER01-2094-000]

Take notice that on May 21, 2001, Idaho Power Company tendered for filing a Service Agreement for Firm Point-to-Point Transmission Service between Idaho Power and Axia Energy, LP, under its open access transmission tariff in the above-captioned proceeding.

Comment date: June 11, 2001, in accordance with Standard Paragraph E at the end of this notice.

10. Avista Corporation

[Docket No. ER01-2095-000]

Take notice that on May 21, 2000, Avista Corporation (Avista) tendered for filing a Parallel Operating and Power Sale Agreement (Agreement) between Avista and Kootenai Electric Cooperative (Kootenai). The Agreement allows Kootenai to interconnect a 1.6 MW diesel powered electric generating unit located at Kootenai's Athol Substation with Avista's electric system for parallel operation of the unit with Avista's system. The Agreement also provides for sales of power from the unit to Avista, to the extent Kootenai is able to produce more power from the unit than it needs to cover its loss obligations to Avista.

Given the urgent need for additional generating capacity in the Pacific Northwest, Avista also requests waiver of the Commission's notice requirements to allow the Agreement to become effective on March 15, 2001.

Comment date: June 11, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13726 Filed 5-31-01; 8:45 am]

BILLING CODE 6717-01-P